DEPARTMENT OF COMMERCE

National Oceanic and Atmospheric Administration

RIN 0648-XI67

Amendment 2 to the Fishery Management Plan for U.S. West Coast Fisheries for Highly Migratory Species

AGENCY: National Marine Fisheries Service, National Oceanic and Atmospheric Administration, Department of Commerce.

ACTION: Notice; intent to prepare a supplemental environmental impact statement; request for comments.

SUMMARY: Pursuant to the National Environmental Policy Act (NEPA), the National Marine Fisheries Service (NMFS) announces its intent to prepare a supplemental environmental impact statement (SEIS) on Amendment 2 to the Fishery Management Plan for U.S. West Coast Fisheries for Highly Migratory Species (HMS FMP). An environmental impact statement (EIS) was prepared for the HMS FMP and finalized in August 2003; however, the HMS FMP was only partially approved and the West Coast-based shallow-set longline (SSLL) fishery was not implemented. Amendment 2 would establish a management framework for a West Coast-based SSLL fishery outside of the West Coast Exclusive Economic Zone (EEZ). The amendment is needed in order to provide high seas SSLL fishing opportunity for historic and/or current West Coast-based fishermen who have participated in fisheries targeting swordfish and landed swordfish in West Coast ports. NMFS provides this notice to describe the proposed action and possible alternatives; advise other Federal and State agencies, affected Tribes, and the public of our intent to prepare an EIS; announce the initiation of a public scoping period; and obtain suggestions and information on the scope of issues to be included in the EIS.

DATES: Public scoping will also be conducted through regular meetings of the Pacific Fishery Management Council and its advisory bodies. The Pacific Fishery Management Council is scheduled to select a preliminary preferred alternative at their September 2008 meeting and take final action to select a preferred alternative at their March 7-12, 2009 meeting in Seattle, Washington. The details of this and any other meetings related to this action will be announced in the Federal Register. Written, faxed or emailed comments must be received by 5 p.m., Pacific Daylight Time on September 8, 2008.

ADDRESSES: The public is encouraged to submit comments, on issues and alternatives, identified by RIN: 0648-XI67 by any of the following methods:

• Electronic Submissions: Submit all electronic public comments via the Federal eRulemaking Portal: http://www.regulations.gov. Follow the instructions for submitting comments.Attachments to electronic comments will be accepted in Microsoft Word, Excel, WordPerfect, or Adobe PDF file formats only.

• Mail: Submit written comments to Mark Helvey, Assistant Regional Administrator, National Marine Fisheries Service, Southwest Region, Sustainable Fisheries Division, 501 West Ocean Blvd., Suite 4200, Long Beach, CA 90802-4213.

• Fax: (562) 980-4047, Attention: Mark Helvey.

Instructions: All comments received are a part of the public record and may be posted to http://www.regulations.gov without change. All Personal Identifying Information (e.g., name, address, etc.) voluntarily submitted by the commenter may be publicly accessible. Do not submit Confidential Business Information or otherwise sensitive or protected information. NMFS will accept anonymous comments (please enter N/A in the required fields, if you wish to remain anonymous). Copies of the Fishery Management Plan for U.S. West Coast Fisheries for Highly Migratory Species and the Environmental Impact Statement are available on the Pacific Fishery Management Council's website (www.pcouncil.org).

FOR FURTHER INFORMATION CONTACT: Mark Helvey, Assistant Regional Administrator, National Marine Fisheries Service, Southwest Region, Sustainable Fisheries Division, (562) 980-4040.

SUPPLEMENTARY INFORMATION:

Background

The HMS FMP, prepared by the Pacific Fishery Management Council (Council), would have authorized a West Coast-based SSLL fishery on the high seas outside the EEZ; however, on February 4, 2004 NMFS informed the Council that it had approved the HMS FMP with the exception of the provision that would have allowed SSLL fishing by West Coast-based vessels targeting swordfish east of 150° W. longitude. The disapproval was based on the Section 7 consultation for the HMS FMP, which concluded that allowing SSLL fishing for swordfish with traditional gear and no effort limits east of 150° W. longitude would appreciably reduce the likelihood of survival and recovery in the wild of loggerhead sea turtles. Hawaii-permitted vessels may currently fish seaward of the U.S. West Coast EEZ and east of 150 W. longitude and land on the West Coast; however, they have not done so since 2004.

The Magnuson-Stevens Act requires NMFS, if a FMP is disapproved in part or in whole, to advise the Council of actions it can take to address the disapproved FMP provisions. In a letter dated February 4, 2004, NMFS indicated to the Council that alternative gear and bait options (e.g., large circle hooks and mackerel bait) being tested in the U.S. Atlantic SSLL swordfish fishery had proven successful in significantly reducing sea turtle interactions and consequent injury to or mortality of sea turtles. NMFS advised the Council that possible use of alternative gear and bait requirements, effort limits, time/area limits, turtle take caps, or other measures that would limit sea turtle mortality to low levels by any future West Coast-based SSLL fishery might provide the necessary conservation and management measures to operate a fishery without jeopardizing the continued existence of ESA-listed sea turtles. Since that time, the alternate gear and bait options have also proven to be successful in the Hawaii-based SSLL swordfish fishery, as well as in foreign longline swordfish fisheries (e.g., Brazil, Italy, Ecuador and Uruguay), resulting in significant reductions in sea turtle interactions and mortalities while maintaining economically viable fisheries. As a result of these successful gear innovations, NMFS recommended at the April 2007 meeting that the Council re-visit the disapproved portion of the HMS FMP.

The SEIS will analyze the potential impacts of the following alternatives on the human environment, which were adopted by the Council at their March 2008 meeting in Sacramento, California.

Alternatives

Alternative 1 is the status quo or no action alternative, which would continue to prohibit the use of SSLL gear to fish for or target swordfish on the high seas north of the equator by West Coast-based vessels, unless a vessel has both a Western Pacific Fishery Management Council Pelagics limited entry (LE) permit and a Pacific Fishery Management Council HMS permit. Current regulations pursuant to the HMS FMP prohibit West Coast-based vessels from targeting swordfish with SSLL gear west of 150 W. longitude, and Endangered Species Act regulations prohibit West Coast-based vessels from targeting swordfish with SSLL gear east of 150 W. longitude.

Alternative 2 would implement a West Coast-based LE permit program for SSLL fishing on the high seas seaward of the West Coast EEZ. It is estimated that the fishery would be economically viable with an effort level of 1 to 1 1/2 million hooks. A maximum of 20 permits would be issued with the final number based in part on an evaluation of what would be an economically viable fleet size for the proposed fishery. There are several LE options for Alternative 2 to establish an initial pool of qualifiers; the criteria that may be involved include prior landings history for swordfish, years of fishing experience, recent participation in a swordfish fishery, and/or ownership of a drift gillnet permit. Two area closure options will also be considered under this alternative. The fishery would either be constrained to east of 150 W. longitude, or east of 140 W. longitude; analyses developed in conjunction with the HMS FMP suggested that loggerhead takes were lower the farther east fishing occurred up to the West Coast EEZ boundary.

Alternative 3 would establish a management framework for a West Coast-based SSLL fishery seaward of the U.S. EEZ without a LE permit program. The management framework would contain the following provisions: (1) the fishery would be constrained to east of 140° W. longitude; (2) owners of a Hawaii Pelagics LE permit would not qualify for the West Coast LE permit; and (3) sea turtle take mitigation measures (e.g., gear requirements, 100 percent observer coverage, take caps) would be required.

Protected Species Mitigation Measures

Alternatives 2 and 3 would be subject to many of the same gear restrictions applicable to the Hawaii SSLL fishery, including the use of large circle hooks that are less likely to be deeply ingested by turtles as compared to traditional J-hooks, mackerel-type bait, and longer branch-lines to allow animals to surface and breathe after being hooked. In addition, U.S. fishermen would be required to have NMFS-approved safe handling gear on board to assist in boarding sea turtles, and de-hooking and releasing the gear from sea turtles, as well as training in resuscitation techniques to maximize the survival rate of sea turtles. Gear-related requirements would be harmonized with the Hawaii regulations as much as possible to ease compliance and minimize impacts to protected resources. In addition, any future West Coast-based SSLL fishery would be required to have 100 percent observer coverage.

There would also be established take caps for ESA-listed loggerhead and leatherback sea turtles based on a formal ESA Section 7 consultation. The Council could recommend specific take caps as part of their preferred alternative, based on informal consultation with NMFS Protected Resources Division, or the Incidental Take Statement that would be part of the Biological Opinion produced as part of the formal Section 7 consultation. Take caps would be applied annually and the fishery would close immediately if they were reached. The fishery would reopen at the start of the next fishing year (April 1) with a new set of take caps in effect.

To address potential resource concerns and/or fishery conflicts for species not designated and managed as protected species, additional management measures, such as maximum allowable harvest caps may be considered. This may include, but is not bound by or limited to, striped marlin, and commercially important tuna species that are HMS FMP management unit species (e.g., yellowfin, bigeye, bluefin, and albacore tuna) and which are being managed under the purview of conservation measures established by Regional Fishery Management Organizations.

Other Documentation

As required in Section 7(a)(2) of the ESA (16 U.S.C. 1531 et seq.), NMFS will initiate a formal consultation with NMFS Protected Resources Division to determine if the proposed action is likely to jeopardize the continued existence and recovery of any endangered or threatened species, or result in the destruction or adverse modification of critical habitat. NMFS also plans to consult with the National Marine Sanctuary Program in regards to potential impacts to Sanctuary resources, the U.S. Fish and Wildlife Service concerning potential impacts to endangered seabirds, and internally with the NMFS Habitat Conservation Division concerning essential fish habitat components.

Additional Scoping Opportunities

Public scoping has already occurred as part of the Council's decision-making process and will continue through Council final action. All decisions during the Council process benefit from written and oral public comments delivered prior to or during the Council meetings. These public comments are considered integral to the scoping process and development of the SEIS. The Council is scheduled to choose a preliminary preferred alternative at their September 7-12, 2008 meeting in Boise, Idaho and take final action to select a preferred alternative at their March 7-12, 2009 meeting in Seattle, Washington. Written comments submitted to the Council by August 20, 2008 will be made available to the Council in advance briefing materials for their September meeting. Opportunities for oral public comment are also offered at Council meetings. For more information see the Council's website (www.pcouncil.org).

Request for Comments NMFS requests public comment on the Notice of Intent to prepare a Supplemental Environmental Impact Statement for Amendment 2 to the Fishery Management Plan for U.S. West Coast Fisheries for Highly Migratory Species.

Authority: 16 U.S.C. 1801 et seq.

Dated: August 1, 2008.
Alan D. Risenhoover,
Director, Office of Sustainable Fisheries, National Marine Fisheries Service.

[FR Doc. E8-18106 Filed 8-6-08; 8:45 am]

BILLING CODE 3510-22-S